DEPARTMENT OF ENERGY

Federal Energy Regulatory Commission

[Docket Nos. CP07-406-003]

Monroe Gas Storage Company, LLC; Notice of Filing

March 4, 2009.

Take notice that on February 23, 2009, Monroe Gas Storage Company, LLC (Monroe Gas), 1200 17th Street, Suite 2100, Denver, CO 80202, filed an application, pursuant to section 7 of the Natural Gas Act (NGA) and Part 157 of the Commission's Rules and Regulations, for limited amendment to its certificate of public convenience and necessity issued on December 21, 2007 under Docket No. CP07-406-000. Monroe Gas seeks authorization to implement its Revised Well Plan Project at the certificated gas storage field currently under construction in Monroe County, Mississippi (Project). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

The Project will involve the relocation of two wells, the addition of eight new wells, and related changes to ancillary facilities, including well pads, gathering pipelines and access roads. There will be no changes to the certificated compression and control facilities. Monroe Gas does not seek to change the overall physical capabilities of the certificated gas storage field. The Project will affect a total of approximately 33.41 acres of land which located within the boundaries of the storage field as previously certificated.

Any questions regarding the application are to be directed to William B. Mathews, Monroe Gas Storage Company, LLC, 1200 17th Street, Suite 2100, Denver, CO 80202, (303) 951-4282.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's web site under the “e-Filing” link. The Commission strongly encourages electronic filings.

Comment Date: March 16, 2009.

Kimberly D. Bose,
Secretary.

[FR Doc. E9-5255 Filed 3-11-09; 8:45 am]

BILLING CODE 6717-01-P